DEPARTMENT OF THE INTERIOR

Bureau of Land Management

[CACA 49561, LLCAD08000L5101 ER0000LVRWB09B3220]

Notice of Availability of the Draft Environmental Impact Statement for the Proposed Chevron Energy Solutions Lucerne Valley Solar Project, San Bernardino County, CA, and the Draft California Desert Conservation Area Plan Amendment

AGENCY: Bureau of Land Management, Interior.

ACTION: Notice of Availability.

SUMMARY: In accordance with the National Environmental Policy Act of 1969, as amended, and the Federal Land Policy and Management Act of 1976, as amended, the Bureau of Land Management (BLM) has prepared a Draft California Desert Conservation Area (CDCA) Plan Amendment and a Draft Environmental Impact Statement (EIS) for the proposed Chevron Energy Solutions Lucerne Valley Solar Project and by this notice is announcing the opening of the comment period.

DATES: To ensure that comments will be considered, the BLM must receive written comments on the CDCA Plan Amendment and Draft EIS within 90 days following the date the Environmental Protection Agency publishes this Notice of Availability in the Federal Register. The BLM will announce future meetings or hearings and any other public involvement activities at least 15 days in advance through public notices, media releases, or mailings.

ADDRESSES: You may submit comments related to the proposed Chevron Energy Solutions Lucerne Valley Solar Project by any of the following methods:

• Web site: http://www.blm.gov/ca/st/en/fo/barstow.html.

• E-mail: LucerneSolar@blm.gov.

• Fax: (951) 697-5299.

• Mail or other delivery service: Greg Thomsen, BLM California Desert District Office, 22835 Calle San Juan de Los Lagos, Moreno Valley, California 92553.

Copies of the Draft EIS and Draft CDCA Plan Amendment for the proposed Chevron Energy Solutions Lucerne Valley Solar Project are available in the California Desert District Office at the above address.

FOR FURTHER INFORMATION CONTACT: For further information contact Greg Thomsen, Project Manager; telephone (951) 697-5237 or at the address and e-mail address above.

SUPPLEMENTARY INFORMATION: Chevron Energy Solutions has requested a 516-acre right-of-way (ROW) authorization to construct and operate a 45-megawatt solar photovoltaic project and connect it to an existing Southern California Edison 33 kV distribution system on public lands located approximately 8 miles east of Lucerne Valley, San Bernardino County, California.

The proposed project would include a solar array, switchyard, a control and maintenance building, and parking area. The Draft EIS analyzes the site-specific impacts to the environment from the proposed project. Alternatives include:

• A no action alternative with a plan amendment making the project area unavailable to other solar energy projects;

• A no action alternative with a plan amendment making the project area available to other solar energy projects;

• The proposed action;

• A modified proposed action that reduces visual and biological impacts; and

• A reduced footprint/reduced megawatts modified proposed action.

Pursuant to BLM's CDCA Plan (1980, as amended), sites associated with power generation or transmission not identified in the CDCA Plan will be considered through the plan amendment process.

A Notice of Intent to Prepare an EIS and CDCA Plan amendment for the Lucerne Valley Solar Project was published in the Federal Register on July 23, 2009. This was followed by a 30-day public scoping period which ended August 22, 2009. Scoping meetings were held on July 23, 2009 in Lucerne Valley, California, and on July 30 in San Bernardino, California. Numerous public scoping comments were received.

The main concerns included potential impacts to biological species, visual resources, and cultural resources, and appropriate use of public land. The issues and concerns identified in the scoping comments were addressed in the DEIS.

Please note that public comments will be available for public review and disclosure at the above address during regular business hours (8 a.m. to 4 p.m.), Monday through Friday, except holidays.

Before including your address, phone number, e-mail address, or other personal identifying information in your comment, you should be aware that your entire comment—including your personal identifying information—may be made publicly available at any time. While you can ask us in your comment to withhold your personal identifying information from public review, we cannot guarantee that we will be able to do so.

Authority: 40 CFR 1506.6; 40 CFR 1506.10; 43 CFR 1610.2.

Thomas Pogacnik,
Deputy State Director, California.

[FR Doc. 2010-2299 Filed 2-4-10; 8:45 am]

BILLING CODE 4310-40-P